SECURITIES AND EXCHANGE COMMISSION

Proposed Collection; Comment Request

Upon written request, copies available from: Securities and Exchange Commission, Office of Filings and Information Services, Washington, DC 20549.

Extension: Rule 14f-1, OMB Control No. 3235-0108, SEC File No. 270-127;

Rule 12d1-3, OMB Control No. 3235-0109, SEC File No. 270-116.

Notice is hereby given that pursuant to the Paperwork Reduction Act of 1995 (44 U.S.C. 3501 et seq.) the Securities and Exchange Commission (“Commission”) is soliciting comments on the collections of information summarized below. The Commission plans to submit these existing collections of information to the Office of Management and Budget for approval.

Rule 14f-1 (OMB Control No. 3235-0108; SEC File No. 270-127) requires issuers to disclose a change in a majority of the directors of the issuer. The information filed under rule 14f-1 must be filed with the Commission and is publicly available. We estimate that it takes 18 burden hours to provide the information required under rule 14f-1 and that the information is filed by 44 respondents for a total of 792 burden hours.

Rule 12d1-3 (OMB Control No. 3235-0109; SEC File No. 270-116) requires a certification that a security has been approved by an exchange for listing and registration pursuant to section 12(d) of the Securities Exchange Act of 1934 to be filed with the Commission. The information required under rule 12d1-3 must be filed with the Commission and is publicly available. We estimate that it takes one-half hour to provide the information required under rule 12d1-3 and that the information is filed by 688 respondents for a total of 344 burden hours.

Written comments are invited on: (a) Whether these proposed collection of information are necessary for the performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comment to Kenneth A. Fogash, Acting Associate Executive Director/CIO, Office of Information Technology, Securities and Exchange Commission, 450 Fifth Street, NW., Washington, DC 20549.

Dated: August 19, 2003.
Margaret H. McFarland,
Deputy Secretary.

[FR Doc. 03-21821 Filed 8-25-03; 8:45 am]

BILLING CODE 8010-01-P